FEDERAL MINE SAFETY AND HEALTH REVIEW COMMISSION

Sunshine Act Meeting

February 21, 2001.

TIME AND DATE: 10:00 a.m., Friday, March 2, 2001.

PLACE: Room 6005, 6th Floor, 1730 K Street, NW., Washington, DC.

STATUS: Open.

MATTERS TO BE CONSIDERED: The Commission will consider and act upon the following:

1. Eagle Energy, Inc., Docket No. WEVA 98-39 (Issues include whether the judge correctly determined that the violation of 30 CFR 75.380(d)(1) was not due to the operator's unwarrantable failure).

Any person attending an open meeting who requires special accessibility features and/or auxiliary aids, such as sign language interpreters, must inform the Commission in advance of those needs. Subject to 29 CFR 2706.150(a)(3) and 2706.160(d).

CONTACT PERSON FOR MORE INFO: Jean Ellen, (202) 653-5629/(202) 708-9300 for TDD Relay/1-800-877-8339 for toll free.

Jean H. Ellen,
Chief Docket Clerk.

[FR Doc. 01-4842 Filed 2-23-01; 12:48 pm]

BILLING CODE 6735-01-M